DEPARTMENT OF LABOR

Office of Disability Employment Policy; Disability Technical Assistance for Providers (TAP) Cooperative Agreement

AGENCY: Office of Disability Employment Policy, Labor

ACTION: Notice of Availability of Funds and Solicitation for Cooperative Agreement Applications (SGA 02-15).

SUMMARY: The U.S. Department of Labor (DOL or the Department), Office of Disability Employment Policy (ODEP) announces the availability of $600,000 to award one cooperative agreement. This cooperative agreement will provide funds for the implementation of a national technical assistance and training effort designed to increase the capacity of Community Rehabilitation Programs (CRPs) and other community-based service providers that currently operate programs that result in segregated work outcomes and non-work options for people with disabilities in the “Special Minimum Wage” program established under section 14(c) of the Fair Labor Standards Act (FLSA), 29 U.S.C. 214(c). The desired outcome of this proposed technical assistance and training effort is to work with providers using section 14(c) certificates to: (1) evolve their programs to provide integrated employment outcomes (i.e., non section 14(c) employment) in non-stereotypical jobs based on customized employment strategies and individual choice; and (2) to increase wages of people with disabilities who are currently working at less than minimum wage through the use of customized employment strategies and individual choice.

This cooperative agreement is for a one-year period and may be renewed for up to four additional years depending upon project performance and funding availability. All forms necessary to prepare an application are included in this solicitation package.

This cooperative agreement anticipates substantial involvement between ODEP and the awardee during the performance of the project. Involvement will include collaboration or participation by ODEP in the management of the project throughout the period of the award. For example, ODEP will be involved in decisions involving strategy, hiring of personnel, deployment of resources, release of public information materials, quality assurance, coordination of activities with other offices, and conducting research.

DATES: One ink-signed original, complete application plus two (2) copies of the Technical Proposal and two copies of the Cost Proposal shall be submitted to the U.S. Department of Labor, Procurement Services Center, Grant Officer, Reference SGA 02-15, Room N-5416, 200 Constitution Avenue, NW., Washington, DC 20210, not later than 4:45 p.m. Eastern Daylight Savings Time (EDST), September 4, 2002.

ADDRESSES: Applications must be directed to the U.S. Department of Labor, Procurement Services Center, Attention: Grant Officer, Reference Cooperative Agreement 02-15, Room N-5416, 200 Constitution Avenue, NW., Washington, DC 20210.

FOR FURTHER INFORMATION CONTACT: Application announcements or forms will not be mailed. The Federal Register may be obtained from your nearest government office or library. In addition, a copy of this notice and the application requirements may be downloaded from the Office of Disability Employment Policy's Web site at http://www2.dol.gov./odep. Questions concerning this solicitation may be sent to Cassandra Willis, at (202) 693-4570 (this is not a toll-free number). Persons who are deaf or hard of hearing may contact the Department via the Federal Relay Service, (800) 877-8339.

Late Proposals: All applicants are advised that U.S. mail delivery in the Washington, DC area has been erratic due to concerns involving anthrax contamination. All applicants must take this into consideration when preparing to meet the application deadline. It is recommended that you confirm receipt of your application by contacting Cassandra Willis, U.S. Department of Labor, Procurement Services Center, by telephone (202) 693-4570 (this is not a toll-free number), prior to the closing deadline. Persons who are deaf or hard of hearing may contact the Department via the Federal Relay Service, (800) 877-8339.

Acceptable Methods of SubmissionThe grant application package must be received at the designated place by the date and time specified or it will not be considered. Any application received at the Office of Procurement Services Center after 4:45 p.m., EDST, September 4, 2002, will not be considered unless it is received before the award is made and:

1. It was sent by registered or certified mail not later than the fifth calendar day before September 4, 2002; or

2. It was sent by U.S. Postal Service Express Mail Next Day Service-Post Office to Addressee, not later than 5 p.m. at the place of mailing two working days, excluding weekends and Federal holidays, prior to September 4, 2002; and/or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the time of receipt at the U. S. Department of Labor is the date/time stamp of the Procurement Services Center on the application wrapper or other documentary evidence or receipt maintained by that office.

Applications sent by other delivery services, such as Federal Express, UPS, etc., will also be accepted; however the Department does not accept dates or date stamps on such packages as evidence of timely mailing. Thus, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

SUPPLEMENTARY INFORMATION:

I. Authority

Consolidated Appropriations Act, 2001, Pub. L. 106-554, 114 Stat. 2763; 29 U.S.C. 557b; DOL, HHS, Education and Related Appropriations Act, 2002, Pub. L. 107-116, 115 Stat. 2177.

II. Background

Too often, many people with disabilities, including those in sheltered workshops, day activity center programs, many young people transitioning from school, and people covered by the U.S. Supreme Court's Olmstead v. L.C decision, 527 U.S. 581 (1999), are tracked into jobs that are customary and stereotypical. These employment options usually pay low wages, offer no benefits, and do not provide any opportunity for advancement. Fortunately programs and providers of employment services have challenged these conventional employment practices as too limiting for persons with disabilities, and have instead successfully facilitated employment in a variety of new and expanded jobs. These opportunities include employment in industries which offer increased earnings, benefits, and career advancement possibilities, such as jobs in technology-related industries, and professional, administrative, and office support. Such employment also includes self-employment and entrepreneurial opportunities, as well as a host of other individually designed, customized employment options.

People with disabilities and high support needs have traditionally been relegated to placements characterized by non-work activities, segregated environments, and/or part-time jobs where they earn less than minimum wage. A large percent of this population receives no employment services; are in institutional settings; or, are on waiting lists for available community programs. A recent GAO Report, Special Minimum Wage Program (September 2001) documents that there are about 424,000 employees with disabilities who earn less than minimum wage under section 14(c) of the Fair Labor Standards Act (FLSA). In addition, over half earn less than $2.50 per hour, and have been in the same segregated facility for over five years, and some for over 20 years. For every one person with a disability working in integrated settings through supportive employment, 4.5 people remain in segregated settings.

These circumstances continue to exist despite research and demonstration programs documenting that many members of this population can achieve customized, individually-determined, integrated, competitive jobs; can increase their earnings and develop assets; and, as a result, can more fully participate in community life. Increasing numbers of individuals once thought to be “nonfeasible” for employment are demonstrating their competence and capacity in non-stereotypical jobs that pay minimum wage or more, include benefits, and provide for career growth.

Negative stereotyping, unemployment, underemployment, and placement in segregated work and non-work settings are likely to continue for people with disabilities until there are systemic changes undertaken. One such change is increasing provider capacity to provide individually determined, customized employment in non-stereotypic jobs for persons with disabilities.

For purposes of this solicitation, customized employment means individualizing the employment relationship between employees and employers in ways that meet the needs of both. It is based on an individualized determination of the strengths, needs, and interests of the person with a disability, and is also designed to meet the specific needs of the employer. It may include employment developed through job carving, self-employment or entrepreneurial initiatives, or other job development or restructuring strategies that result in job responsibilities being customized and individually negotiated to fit the needs of individuals with a disability. Customized employment assumes the provision of reasonable accommodations and supports necessary for the individual to perform the functions of a job that is individually negotiated and developed.

Fortunately, customized employment strategies (such as supported employment, supported entrepreneurship, job carving and restructuring, development of micro-boards and microenterprises, use of personal agents, and use of individual vouchers, training accounts, and personal budgets) are increasingly leading to integrated community life and jobs for people with high support needs. However, there exists a critical lack of professional development efforts designed to increase service providers' expertise in utilizing such strategies to support people with disabilities who are seeking integrated, customized employment. Challenges exist related to: (1) Identifying strengths and needs of the individuals with disabilities; (2) providing individual negotiation with employers and job development personnel for identifying and securing desired employment; (3) understanding the range of customized employment strategies that may be utilized in securing the individual employment outcome; and (4) implementing organizational change strategies necessary to incorporate such customized employment techniques into the provider services. Additional challenges relate to the need for Community Rehabilitation Programs and other community-based providers that currently operate programs under section 14(c) to be better equipped to effectively engage the employer/business community. In addition, the high staff turnover in direct service positions, which is typical in many community programs, further exacerbates the problem of inadequate staff capacity to effectively support people with disabilities into integrated customized employment. Finally, there is a critical need for providers participating in programs under section 14(c) to identify ways to more broadly and creatively use existing service and funding systems. The current initiative is designed to begin to address these needs through a program of technical assistance and training aimed at promoting organizational change.

Various community-based providers (e.g., Community Rehabilitation Providers, school systems, public vocational rehabilitation agencies, substance abuse treatment providers, etc.), who are utilizing FLSA 14(c) Special Minimum Wage certificates can benefit from the technical assistance and training efforts to be provided by this cooperative agreement and can develop the necessary capacity to enable them to further refine their program so that customized employment outcomes will become their hallmark.

It is critical that community providers utilizing 14(c) certificates are supported and encouraged to further utilize customized employment strategies. Critical to this is the understanding that customized employment begins with identifying the strengths, interests and desires of the individual with a disability.

Providers utilizing section 14(c) certificates must also be able to better understand and respond to the needs of local employers; create ongoing partnerships with the business community; and function more as businesses. Other currently operating ODEP/DOL grant efforts (e.g., Customized Employment Grants and The Technical Assistance Consortia for Adults and Youth with Disabilities) focus on building capacity of One-Stop Career Centers and other workforce development system partners. Still other federal, state, and local funding efforts focus on training exemplary providers to expand their services in other localities. This Technical Assistance for Providers (TAP) Cooperative Agreement seeks to integrate the aforementioned grant initiatives in its technical assistance and training efforts.

Currently, little attention is being given at the federal level to initiatives that focus on providing training and technical assistance to providers of segregated services (e.g., sheltered workshops and day activity programs), and others participating in Special Minimum Wage programs under section 14(c) of the FLSA. If people with disabilities are to become employed in quality jobs, these providers must be the beneficiaries of targeted technical assistance and training efforts such as those proposed in this solicitation.

This cooperative agreement would also be consistent with the U.S. Department of Labor's commitment under Executive Order 13217, “Community-Based Alternatives for Individuals with Disabilities,” as stated in the November 8, 2001 Report to the Secretary of the United States Department of Health and Human Services. In this Report, ODEP indicated that it would collaborate with the Employment Standards Administration's Wage and Hour Division to develop training and technical assistance on increasing earnings and customized employment for individuals with disabilities earning commensurate wages under section 14(c) of the FLSA, and disseminate this assistance to their stakeholder networks.

III. Purpose

The purpose of this cooperative agreement is to help Community Rehabilitation Service Providers (CRSPs) and other disability community service providers operating section 14(c) programs to take a leadership role in changing their program outcomes from segregated and non-employment services to program outcomes that lead to customized, competitive employment in non-stereotypical jobs for people with disabilities. This cooperative agreement is for the purpose of developing and providing training and technical assistance designed to enable community-based providers that are currently participating in section 14(c) of the FLSA (Special Minimum Wage certificates) programs to develop and/or increase their program's provision of customized integrated employment outcomes for people with disabilities. Funds will be used to develop the capacity of community providers utilizing 14(c) certificates to effectively support the movement of people with disabilities into integrated jobs based upon customized employment strategies. Particular emphasis is to be placed on employment that pays above minimum wage and provides opportunities for career growth. It is expected that the awardee will take steps to establish a core of trained and committed community providers participating in section 14(c) programs who can then work with other providers participating in the section 14(c) program to replicate and expand upon these concepts. Further, the direct contact with community providers will offer the awardee insight and information on related policy concerns that shall be shared with ODEP/DOL on an ongoing basis.

This cooperative agreement is intended to: (1) Develop capacity for provision of customized employment strategies among providers who utilize the FLSA 14(c) program; (2) build effective relationships between employers and these employment service providers that result in the development of non-stereotypical employment opportunities, providing increased earnings, benefits, and career advancement potential for people with disabilities; (3) address the production, operations, and technical assistance needs of businesses to promote their hiring of people with disabilities in non-stereotypical jobs; (4) promote positive organizational change, as described in the “Background” section through professional and organizational development and other means of on-site assistance to individual providers; and (5) increase the number of section 14(c) providers that have the capacity to provide customized employment as eligible training providers with One-Stop Career Centers and other workforce development system partners. Efforts should be undertaken to ensure that community rehabilitation providers operating section 14(c) programs consider the possibilities of developing jobs for their customers in non-stereotypical occupations which lead to increased earnings, benefits, and career advancement possibilities. To accomplish these objectives, a comprehensive and integrated array of training and technical assistance initiatives will be undertaken, including utilization of experienced trainers using demonstrated effective training techniques and options, access to individual coaching, and other technical assistance for providers operating 14(c) programs seeking to undertake organizational change, and development and dissemination of information relevant to these goals.

IV. Statement of Work

The applicant must provide the following services and materials:

1. Develop and implement training at the programmatic and systemic levels that promotes change from segregated work and non-work options for people with disabilities to integrated customized employment based on individual choice. The goal is to increase integrated, non-stereotypical employment, earnings, and opportunities for career advancement potential (as appropriate), based on the individual strengths and desires of the individual, as well as increased community participation through employment for people with disabilities. This requirement includes:

a. Documenting existing individual programmatic and systemic barriers to community-based employment for people with disabilities in the state;

b. Conducting needs assessment of community rehabilitation providers utilizing 14(c) certificates to assist in determining the array, type, and intensity of technical assistance, training and information to be provided;

c. Developing training and technical assistance materials and curriculum for providers utilizing 14(c) certificates to facilitate their understanding and adoption of person-driven, customized employment strategies resulting in community-based, integrated employment;

d. Utilizing the curriculum and materials developed to provide training for community rehabilitation providers that utilize 14(c) certificates to assist them in incorporating customized employment strategies and integrated employment outcomes into their programs;

e. Making all training/materials/curriculum available through distance learning options such as interactive websites and video conferencing;

f. Documenting the use of customized employment strategies by participating providers following any training, and how the use of such strategies impacts on successful employment outcomes; and

g. Documenting the increased participation of providers utilizing customized employment strategies as eligible training providers under the Workforce Investment Act (WIA) (Public Law No. 105-220, 29 U.S.C. 2801 et seq.).

2. Provide ongoing coaching and technical assistance to providers utilizing 14(c) certificates and WIA partners through phone and in-person assistance, as well as through on-line resources such as list-servs or e-mail responses to inquiries, including:

a. Providing personal technical assistance, training, and information for particular providers utilizing section 14(c) certificates to assist them in their organizational change to integrated, customized employment. Such technical assistance, training and information shall focus on integrating customized employment practices into the providers' services and result in increased choice, self-determination, and increased earnings for individuals with disabilities (including benefits and career advancement opportunities as appropriate). Such strategies shall also result in increased community participation for the people with disabilities involved;

b. Developing linkages and collaborating with other national federal initiatives providing services and supports for people with disabilities (including but not limited to systems change efforts promoting permanent systems improvement and comprehensive coordination; health care; housing; transportation; education; supported employment; benefits planning and assistance; small business development; and technology related assistance) and other national initiatives, as appropriate. Coordinating with DOL's other related initiatives (e.g., ETA's Work Incentive Grants) and ODEP's other initiatives (e.g., WorkFORCE Coordinating and Action Grants, Customized Employment Grants.);

c. Developing and communicating regularly with: (1) A network of local providers which can be utilized as a leadership network or constituency support group for this technical assistance and training effort; and (2) national experts in the area of customized employment strategies;

d. Developing ongoing communication and linkages with employers, trade associations, and professional and business service organizations; and

e. Assisting CRPs that provide customized employment services in becoming eligible training providers with One-Stop Career Centers and other workforce development system partners.

3. Acting as a central locus of information and expertise on customized, community-based employment for people with disabilities by:

a. Providing national linkages to information, experts and activities including exemplary and promising practices on how to promote organizational change (at the provider and system levels) that increases community-based, customized employment in non-stereotypical jobs for people with disabilities;

b. Providing information and conducting initiatives to educate employers and the general public about the abilities of people with disabilities to work in a wide variety of occupations and contribute to the workforce;

c. Providing information to people with disabilities and their families, and others, as appropriate, about promising practices that facilitate increased employment and earnings for people with disabilities;

d. Developing and disseminating materials to supplement existing technical assistance and training materials. All materials must be made available through an accessible Internet Web site;

e. Serving as a repository and dissemination center for information and materials developed by ODEP grantees, including promising practices; and

f. Providing coordination and information sharing among multiple DOL grantees and initiatives of other agencies related to people with disabilities (such as projects of the Rehabilitation Services Administration (RSA), Office of Special Education Programs (OSEP), Department of Health and Human Services (HHS), the Substance Abuse Mental Health Services Administration (SAMHSA), the Centers for Medicare and Medicaid Services (CMS), Social Security Administration (SSA), Small Business Administration (SBA), National Institute on Disability and Rehabilitation Research (NIDRR), including coordinating with other national initiatives).

4. Conducting policy studies, conduct evaluation of project activities, and otherwise collect and analyze employment policy-related information, as directed by the Office of Disability Employment Policy (ODEP), and otherwise support ODEP, as requested, in its efforts to increase integrated, customized employment, choice and wages for persons with disabilities, including the following:

a. Researching, collecting and disseminating information from states about effective policies and practices that support community-based employment over segregated services;

b. Collaborating with other federal technical assistance projects that provide information and/or technical assistance about increasing employment and needed supports for people with disabilities in conducting policy studies, as appropriate;

c. Collaborating with other research institutes, centers, and studies and evaluations that are supported by DOL and other relevant Federal agencies;

d. Conducting periodic studies and analysis about employment characteristics and conditions of people with disabilities currently in segregated work and non-work settings such as day activity centers, job club programs, institutions, nursing homes and other facility-based settings, and collaborating with ODEP in developing a range of strategies to respond to identified needs;

e. Conducting periodic studies and analysis of federal and state policies which impede community-based employment for people and evaluate the effectiveness of new policy initiatives, such as the Ticket-to-Work, and Olmstead and Customized Employment Grants which are intended to address these barriers;

f. Conducting ongoing evaluation of the project using thorough and appropriate measures to determine the performance of the project to obtain its goals, objectives, and deliverable; and

g. Responding to requests for information, analysis and other assistance from ODEP on national employment policy as it impacts people with disabilities and the workforce investment system.

V. Funding Availability

The initial period of performance will be 12 months from the date of execution by the Government. Based on availability of funds and project performance, the Department may elect to exercise the option to extend this cooperative agreement for up to four additional option years for a total not to exceed 60 months. With the agreement of the awardee, the Department also may elect to change, modify and/or supplement this cooperative agreement during this period based on the Department's needs.

VI. Eligible Applicants

Eligible applicants may include a public, private non-profit, or for-profit organization or consortium, including community and faith-based organizations with demonstrated appropriate experience and expertise. If the proposal includes multiple consortia members, there must be a prime or lead member who is the responsible fiscal agent.

According to section 18 of the Lobbying Disclosure Act of 1995, an organization, as described in section 501(c)(4) of the Internal Revenue Code of 1986, that engages in lobbying activities will not be eligible for the receipt of federal funds constituting an award, grant, or loan. See 2 U.S.C. § 1611; 26 U.S.C. § 501(c)(4).

VII. Applications Contents

General Requirements—Two copies and an original of the proposal must be submitted, one of which must contain an original signature. Proposals must be submitted by the applicant only. There are three required sections of the application. Requirements for each section are provided in this application package.

Part I—Executive Summary

The Executive Summary must be no more than two single-spaced pages in length giving a clear summary of the project narrative.

Part II—Project Narrative—(Appendices: Letters of Commitment and Support, Resumes, etc.)

Applicants must include a project narrative that addresses the Statement of Work in Part IV of this notice and the selection criteria that are used by reviewers in evaluating the application in Part IX.

You must limit the project narrative to the equivalent of no more than 70 pages using the following standards. This page limit does not apply to Part I, the Executive Summary; Part III, the Project Financial Plan (Budget); and, the Appendices (the assurances and certifications, resumes, a bibliography or references, and the letters of support). A page is 8.5″ × 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Part III—Project Financial Plan (Budget)

Applications must include a detailed financial plan that identifies by line item the budget plan designed to achieve the goals of this cooperative agreement. The Financial Plan must contain the SF-424, Application for Federal Assistance, (Appendix A) and a Budget Information Sheet SF-424A (Appendix B).

In addition, the budget must include on a separate page a detailed cost analysis of each line item. Justification for administrative costs must be provided. Approval of a budget by DOL is not the same as the approval of actual costs. The individual signing the SF-424 on behalf of the applicant must represent and be able to legally bind the responsible financial and administrative entity for a cooperative agreement should that application result in an award. The applicant must also include the Assurances and Certifications Signature Page (Appendix C).

IX. Evaluation Criteria/Selection

A. Evaluation Criteria

The application must include information of the type described below.

1. Significance of the Proposed Project (20 points)

In determining the significance of the proposed project, the Department considers the following factors:

a. The potential contribution of the proposed project to increase knowledge or understanding of problems, issues, or effective strategies for providing integrated employment outcomes in non-stereotypical jobs, based on customized employment strategies and individual choice for people with disabilities;

b. The extent to which the applicant demonstrates an understanding of the issues facing community providers as outlined in this SGA, especially those utilizing section 14(c) Special Minimum Wage certificates;

c. The extent to which the proposed project is likely to yield findings that may be used by other appropriate agencies and organizations;

d. The likely utility of the products (such as information, materials, processes, or techniques) that will result from the proposed project, including the potential for the products being used effectively in a variety of other settings;

e. The extent to which the proposed project disseminates promising practices in ways that will enable others to use the information or strategies; and

f. The importance or magnitude of the results that are likely to be attained by the proposed project.

2. Quality of the Project Design (20 points)

In evaluating the quality of the proposed project design, the Department considers the following factors:

a. The extent to which the goals, objectives, and outcomes to be achieved by the proposed project are clearly specified and measurable;

b. The extent to which the design of the proposed project is appropriate to, and will successfully address, the needs of the target population and other identified needs;

c. The extent to which the design of the proposed project provides an outline of training topics and content to be delivered or utilized; strategies for providing ongoing coaching and technical assistance to community providers; and other strategies to achieve the goals of this solicitation;

d. The extent to which the proposed project is designed to build capacity and yield results that will extend beyond the period of this cooperative agreement;

e. The extent to which the proposed project will be coordinated with similar or related efforts, and with other appropriate community, state, and Federal resources;

f. The extent to which the applicant encourages involvement of people with disabilities, relevant experts, and organizations in project activities; and

g. The extent to which performance feedback and continuous improvement are integral to the design of the proposed project.

3. Quality of Project Personnel (15 points)

The Project Narrative must describe the proposed staffing of the project and must identify and summarize the qualifications of the personnel who will carry it out. In addition, the Department considers the qualifications, including relevant education, training, and experience of key project personnel as well as the qualifications, including relevant training and experience of project consultants or subcontractors. Resumes must be included in the Appendices.

4. Adequacy of the Budget (10 points)

In evaluating the adequacy of the budget for the proposed project, the Department considers the following factors:

a. The extent to which the budget is adequate to support the proposed project and

b. The extent to which the costs are reasonable in relation to the objectives, design, and potential significance of the proposed project.

The applicant may include letters of commitment from proposed partners in the Appendix.

5. Quality of the Management Plan (20 points)

In evaluating the quality of the management plan for the proposed project, the Department considers the following factors:

a. The extent to which the management plan for project implementation achieves the objectives of the proposed project on time and within budget, including clearly defined staff responsibilities, and time allocated to project activities, time lines, milestones for accomplishing project tasks and project deliverables;

b. The adequacy of mechanisms for ensuring high-quality products and services from the proposed project; and

c. The extent to which the time commitments of the project director and/or principal investigator and other key project personnel are appropriate and adequate to meet the objectives of the proposed project.

6. Quality of the Project Evaluation (15 points)

In evaluating the quality of the project's evaluation design, the Department considers the following factors:

a. The extent to which the methods of evaluation are thorough, feasible, and appropriate to the goals, objectives, context, and outcomes of the proposed project;

b. The extent to which the methods of evaluation provide for examining the effectiveness of project implementation strategies;

c. The extent to which the methods of evaluation include the use of objective performance measures that are clearly related to the intended outcomes of the project and will produce quantitative and qualitative data;

d. The extent to which the evaluation will provide information to other programs about effective strategies suitable for replication or testing in other settings; and

e. The extent to which the methods of evaluation measure in both quantitative and qualitative terms, program results and satisfaction of people with disabilities.

B. Selection Criteria

Acceptance of a proposal and an award of federal funds to sponsor any program(s) is not a waiver of any cooperative agreement requirement and/or procedures. Awardees must comply with all applicable Federal statutes, regulations, administrative requirements and OMB Circulars. For example, the OMB circulars require, and an entity's procurement procedures must require, that all procurement transactions shall be conducted, as practical, to provide open and free competition. If a proposal identifies a specific entity to provide the services, the award does not provide the justification or basis to sole-source the procurement, i.e., to avoid competition.

A panel will objectively rate each complete application against the criteria described in this solicitation. The panel recommendations to the Grant Officer are advisory in nature. The Grant Officer may elect to award a cooperative agreement either with or without discussion with the applicant. In situations where no discussion occurs, an award will be based on the signed SF-424 form (see Appendix A), which constitutes a binding offer. The Grant Officer may consider the panel's findings and any information that is available and will make final award decisions based on what is most advantageous to the government, considering factors such as:

1. Findings of the technical evaluation panel; and

2. The availability of funds.

X. Reporting

Awardees will be required to submit periodic financial and participation reports under this program. Specifically the following reports will be required:

1. Quarterly progress reports, and upon completion of the cooperative agreement period a final report. The quarterly report is estimated to take ten hours, and the final report is estimated to take 20 hours. The Department will work with the awardee to identify the requirements of the various reports, which will, among other things, include measures of ongoing analysis for continuous improvement and customer satisfaction.

2. Standard Form 269, Financial Status Report Form, on a quarterly basis;

3. Final Project Report, including an assessment of project performance and outcomes achieved. This report will be submitted in hard copy and on electronic disk using a format and instructions which will be provided by the Department. A draft of the final report is due to the Department 30 days before the termination of the cooperative agreement, and the final report is due 60 days after the termination of the cooperative agreement.

XI. Administration Provisions

A. Administrative Standards and Provisions

The monies awarded under this cooperative agreement shall be subject to the following:

29 CFR part 95—Uniform Administrative Requirements for Grants and Cooperative Agreements with Institutions of Higher Education, etc.

29 CFR part 96—Federal Standards for Audit of Federally Funded Grants, Contracts, and Agreements.

29 CFR part 97—Uniform Administrative Requirement for Grants and Cooperative Agreements to State and Local Governments.

B. Allowable Cost

Determinations of allowable costs shall be made in accordance with the following applicable Federal cost principles:

State and Local Government—OMB Circular A-87

Nonprofit Organizations—OMB Circular A-122

Profit-making Commercial Firms—48 CFR part 31

Profit will not be considered an allowable cost in any case.

C. Non-Discrimination Assurances

As a condition of the award, the applicant must certify that it will comply fully with the nondiscrimination and equal opportunity provisions of the following laws:

29 CFR part 31—Nondiscrimination in Federally-assisted programs of the Department of Labor, effectuation of title VI of the Civil Rights Act of 1964.

29 CFR part 32—Nondiscrimination on the Basis of Disability in Programs and Activities Receiving or Benefiting from Federal Assistance. (Implementing section 504 of the Rehabilitation Act, 29 U.S.C. 794)

29 CFR part 36—Nondiscrimination on the Basis of Sex in Education Programs or Activities Receiving Federal Financial Assistance (Implementing title IX of the Education Amendments of 1972, 20 U.S.C. 1681 et. seq.)

The applicant must include assurances and certifications that it will comply with these laws in its grant application. The assurances and certifications are attached as Appendix C.

Signed at Washington, DC this 30th day of July, 2002.
Lawrence J. Kuss,
Grant Officer.

Appendix A. Application for Federal Assistance, Form SF 424

Appendix B. Budget Information Sheet, Form SF 424A

Appendix C. Assurances and Certifications Signature Page 1

BILLING CODE 4510-CX-P

[FR Doc. 02-19637 Filed 8-2-02; 8:45 am]

BILLING CODE 4510-CX-C